FEDERAL COMMUNICATIONS COMMISSION

47 CFR Part 73

[DA 02-2227; MB Docket No. 02-118; RM-10394]

Radio Broadcasting Services; Ridgway and Rangely, CO

AGENCY: Federal Communications Commission.

ACTION: Final rule.

SUMMARY: In this document, the Commission substitution of Channel 279C1 for Channel 279C2 at Ridgway, Colorado, and the modification of Station KBNG's authorization accordingly, and the substitution of Channel 257C1 for vacant Channel 279C1 at Rangely, Colorado, to accommodate the modification. See 67 FR 40907 (06/14/2002). Channel 279C2 is allotted at Ridgway with a site restriction of 11.9 kilometers (7.4 miles) north of the community at coordinates 38-15-26 NL and 107-46-54 WL. Channel 257C1 can be allotted at Rangely at petitioner's suggested site 5.0 kilometers (3.1 miles) northwest of the community at coordinates 40-7-12 NL and 108-50-29 WL.

DATES: Effective November 4, 2002.

FOR FURTHER INFORMATION CONTACT: Victoria M. McCauley, Media Bureau, (202) 418-2180.

SUPPLEMENTARY INFORMATION: This is a synopsis of the Commission's Report and Order, MB Docket No. 02-118, adopted September 4, 2002, and released September 20, 2002. The full text of this Commission decision is available for inspection and copying during normal business hours in the FCC Reference Center (Room 239), 445 12th Street, SW., Washington, DC. This document may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334, and 336.

2. Section 73.202(b), the Table of FM Allotments under Colorado, is amended by adding Channel 257C1 and removing Channel 279C1 at Rangley and by adding Channel 279C1 and removing Channel 279C2 at Ridgway.

Federal Communications Commission.
John A. Karousos,
Assistant Chief, Audio Division, Media Bureau.

[FR Doc. 02-26227 Filed 10-18-02; 8:45 am]

BILLING CODE 6712-01-P